DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of 14 individuals and 14 entities whose property and interests in property have been unblocked pursuant to the Foreign Narcotics Kingpin Designation Act (Kingpin Act) (21 U.S.C. 1901-1908, 8 U.S.C. 1182).

DATES: The unblocking and removal from the list of Specially Designated Nationals and Blocked Persons (SDN List) of the 14 individuals and 14 entities identified in this notice whose property and interests in property were blocked pursuant to the Kingpin Act, is effective on December 23, 2014.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On December 23, 2014, the Associate Director of OFAC removed from the SDN List the 14 individuals and 14 entities listed below, whose property and interests in property were blocked pursuant to the Kingpin Act:

Individuals

1. ALCANTAR PRECIADO, Simon, c/o GRUPO INMOBILIARIO PROFESIONAL BAJA, S.A DE C.V., Tijuana, Baja California, Mexico; c/o PROMOTORA FIN, S.A., Tijuana, Baja California, Mexico; DOB 12 Feb 1964; POB Jalisco, Mexico; nationality Mexico; citizen Mexico; C.U.R.P. AAPS640212HJCLRM09 (Mexico) (individual) [SDNTK].

2. ARCE PINA, Roberto, c/o GRUPO ARIAS-ARCE AGENCIA DE LOCALIZACION DE VEHICULOS, S.A.DE R.L., Tijuana, Baja California, Mexico; c/o STRONG LINK DE MEXICO, S.A. DE C.V., Tijuana, Baja California, Mexico; c/o GRUPO INMOBILIARIO PROFESIONAL BAJA, S.A. DE C.V., Tijuana, Baja California, Mexico; c/o CAJA AMIGO EXPRESS, S.A. DE C.V., Chula Vista, CA 91910; 750 Brookstone Road #201, Chula Vista, CA 91913; 2830 Paradise Ridge Court, Chula Vista, CA 91915; c/o GLOBAL FUNDING SERVICES, CORP., Chula Vista, CA 91910; 660 Bay Boulevard, Suite 205, Chula Vista, CA 91910; DOB 07 Jun 1971; POB Sonora, Mexico; nationality Mexico; citizen Mexico; C.U.R.P. AEPR710607HSRRXB00 (Mexico); Doing business as GLOBAL FUNDING SERVICES, CORP. at 660 Bay Blvd. Suite 205, Chula Vista, CA 91910. Incorporated in California on 4/24/2002 (No. C2288795) (individual) [SDNTK].

3. ARIAS BANALES, Jose de Jesus, Porfirio Diaz 8190 Juarez, Tijuana, Baja California C.P. 22150, Mexico; c/o GRUPO ARIAS-ARCE AGENCIA DE LOCALIZACION DE VEHICULOS, S.A.DE R.L., Tijuana, Baja California, Mexico; c/o CAJA AMIGO EXPRESS, S.A. DE C.V., Tijuana, Baja California, Mexico; c/o DISTRIBUIDOR AUTORIZADO TEQUILA 4 REYES, S.A.DE R.L., Tijuana, Baja California, Mexico; DOB 25 Feb 1971; POB Baja California, Mexico; nationality Mexico; citizen Mexico; R.F.C. IBJ-710225-MC9 (Mexico); C.U.R.P. AIBJ70225HBCRXS07 (Mexico) (individual) [SDNTK].

4. BARNEY CELAYA, Juan Diego, c/o MULTICAJA DE TIJUANA, S.A. DE C.V., Tijuana, Baja California, Mexico; c/o OPERADORA DE CAJA Y SERVICIOS, S.A. DE C.V., Tijuana, Baja California, Mexico; DOB 16 Mar 1959; POB Sonora, Mexico; nationality Mexico; citizen Mexico; C.U.R.P. BACJ590316HSRRLN01 (Mexico) (individual) [SDNTK].

5. BECERRA ZEPEDA, Gabriel, Benito Juarez, Calle 8290, Zona Central, Tijuana, Baja California 22000, Mexico; c/o OPERADORA DE CAJA Y SERVICIOS, S.A. DE C.V., Tijuana, Baja California, Mexico; DOB 16 Oct 1959; POB Michoacan, Mexico; nationality Mexico; citizen Mexico; R.F.C. BEZG-591016-FL4 (Mexico); C.U.R.P. BEZG591016HMNCPB00 (Mexico) (individual) [SDNTK].

6. ESCOBEDO CHAZARO, Raul, P.O. Box 432477, San Diego, CA 92143; c/o COMERCIALIZADORA E IMPORTADORA GARDES, S.A. DE C.V., Tijuana, Baja California, Mexico; c/o ENTREGA DE CORRESPONDENCIA OPORTUNA, S.A. DE C.V., Tijuana, Baja California, Mexico; c/o TERMINADOS BASICOS DE TIJUANA, S.A.DE R.L. DE C.V., Tijuana, Baja California, Mexico; DOB 16 Jun 1965; alt. DOB 16 Jul 1965; POB Distrito Federal, Mexico; nationality Mexico; citizen Mexico; C.U.R.P. EOCR650716HDFSHL08 (Mexico) (individual) [SDNTK].

7. ESPARZA PENA, Jose de Jesus, c/o CAJA AMIGO EXPRESS, S.A. DE C.V., Tijuana, Baja California, Mexico; DOB 15 Nov 1966; POB Baja California, Mexico; nationality Mexico; citizen Mexico; C.U.R.P. EAPJ661115HBCSXS04 (Mexico) (individual) [SDNTK].

8. FERNANDEZ CARBAJAL, Jorge Andres, c/o ANDREA YARI S.A.; c/o FER'SEG S.A.; DOB 26 Feb 1958; nationality Honduras; Passport 14098 (individual) [SDNTK].

9. OCEJO MIRAMONTES, Alfredo Eugenio, Sinaloa, Calle 112 Mexico, Tijuana, Baja California 22150, Mexico; c/o QUINTA REAL JARDIN SOCIAL Y DE EVENTOS, S.A. DE C.V., Tijuana, Baja California, Mexico; Via Rapida Oriente 10950, Altos Rio Tijuana, Tijuana, Baja California, Mexico; DOB 26 May 1964; POB Baja California, Mexico; R.F.C. OEMA-640526-AJ3 (Mexico); C.U.R.P. OEMA640526HBCCRL05 (Mexico) (individual) [SDNTK].

10. PRECIADO ESCOBAR, Ricardo, c/o OPERADORA DE CAJA Y SERVICIOS, S.A. DE C.V., Tijuana, Baja California, Mexico; DOB 13 Nov 1953; POB Baja California, Mexico; nationality Mexico; citizen Mexico; C.U.R.P. PEER531113HBCRSC04 (Mexico) (individual) [SDNTK].

11. ROCHA LOPEZ, Nancy Karina (a.k.a. ROCHA CASTRO, Nancy; a.k.a. “GUTIERREZ, Nancy R.”), Calle Del Ebano 10850, Tijuana, Baja California C.P. 22420, Mexico; c/o OPERADORA DE CAJA Y SERVICIOS, S.A. DE C.V., Tijuana, Baja California, Mexico; c/o PATRICIA CASA DE CAMBIO, Tijuana, Baja California, Mexico; DOB 28 Aug 1968; POB Sinaloa, Mexico; nationality Mexico; citizen Mexico; C.U.R.P. ROLN680828MSLCPN04 (Mexico) (individual) [SDNTK].

12. RUIZ DE CHAVEZ MARTINEZ, Arturo, La Quemada No. 427, Colonia Navarte, Mexico City, Distrito Federal, Mexico; DOB 27 Jul 1961; POB Mexico City, Distrito Federal, Mexico; nationality Mexico; citizen Mexico; C.U.R.P. RUMA610727HDFZRR07 (Mexico) (individual) [SDNTK].

13. SOTO VEGA, Ivonne (a.k.a. SOTO DE GOMEZ, Ivonne; a.k.a. SOTO VEGA DE GOMEZ, Ivonne; a.k.a. “LA PANTERA”), Ave. Las Conchas 643, Colonia Playas de Tijuana Secc. Coronado, Tijuana, Baja California CP 22200, Mexico; Pso. Centenario 9971, Colonia Zona Urbana Rio Tijuana, Tijuana, Baja California CP 22320, Mexico; c/o MULTISERVICIOS SIGLO, S.A. DE C.V., Tijuana, Baja California, Mexico; DOB 22 Oct 1953; alt. DOB 25 Oct 1953; POB Tijuana, Baja California, Mexico; R.F.C. SOVI-531022-QIA (Mexico) (individual) [SDNTK].

14. TORRES RAMIREZ, Federico Carlos, Carillo Puerto, Calle 8317 2, Zona Central, Tijuana, Baja California, Mexico; c/o STRONG LINK DE MEXICO, S.A. DE C.V., Tijuana, Baja California, Mexico; c/o MULTICAJA DE TIJUANA, S.A. DE C.V., Tijuana, Baja California, Mexico; DOB 04 Nov 1959; POB Zacatecas, Mexico; nationality Mexico; citizen Mexico; R.F.C. TORF-591104-SA7 (Mexico); C.U.R.P. TORF591104HZSRMD07 (Mexico) (individual) [SDNTK].

Entities

1. CAJA AMIGO EXPRESS, S.A. DE C.V., Calle 4, Entre Constitucion y Revolucion, Zona Centro, Tijuana, Baja California, Mexico; Calle 4, Entre Conot & Revo, Tijuana, Baja California, Mexico; Boulevard Agua Caliente, Tijuana, Baja California, Mexico; Diaz Ordaz, 9B Del Prado, Entre Bugambilias y Azucenas, Tijuana, Baja California, Mexico; 660 Bay Boulevard, Suite 205, Chula Vista, CA 91910; R.F.C. CAE-990224-BA3 (Mexico) [SDNTK].

2. COMERCIALIZADORA E IMPORTADORA GARDES, S.A. DE C.V., Carrillo Puerto, Calle 2025 21-A, Zona Central, Tijuana, Baja California, Mexico; Huixquilucan, Distrito Federal, Mexico; R.F.C. CIG-920206-F64 (Mexico) [SDNTK].

3. DISTRIBUIDOR AUTORIZADO TEQUILA 4 REYES, S.A.DE R.L., Tijuana, Baja California, Mexico [SDNTK].

4. ENTREGA DE CORRESPONDENCIA OPORTUNA, S.A. DE C.V., Madero 941 21 A, Entre Carrillo Puerto y Diaz Miron, Zona Central, Tijuana, Baja California, Mexico; R.F.C. ECO-990920-7H6 (Mexico) [SDNTK].

5. GRUPO ARIAS-ARCE AGENCIA DE LOCALIZACION DE VEHICULOS, S.A.DE R.L., Rufino Tamayo 9970, Rio Tijuana, Tijuana, Baja California, Mexico; R.F.C. GAA-990226-SW8 (Mexico) [SDNTK].

6. GRUPO INMOBILIARIO PROFESIONAL BAJA, S.A DE C.V., Carrillo Puerto, Calle 8317 4, Zona Central, Tijuana, Baja California, Mexico; R.F.C. GIP-951219-8P9 (Mexico) [SDNTK].

7. MODULO DE CAMBIOS (a.k.a. MODULO DE CAMBIO; a.k.a. MODULO DE CAMBIO-MULTISERVICIO; a.k.a. MODULOS DE CAMBIO), Calle 2 y Moderno, Zona Centro, Tijuana, Baja California, Mexico; Benito Juarez 8290, C.P. 22000, Tijuana, Baja California, Mexico [SDNTK].

8. MULTICAJA DE TIJUANA, S.A. DE C.V. (f.k.a. CASA DE CAMBIO DEL OESTE), Avenida Lazaro Cardenas 1702 18, Otay Constituyentes, Tijuana, Baja California, Mexico; Carrillo Puerto, Calle 291, Zona Central, Tijuana, Baja California, Mexico; Blvd. Insurgentes 2120, Porvenir, Tijuana, Baja California, Mexico; Insurg-Campos S/N BCO., Insurgentes, Tijuana, Baja California, Mexico; 3A. y Madero, 291, Zona Centro, Tijuana, Baja California, Mexico; Calle 3 y Madero, Zona Centro, Tijuana, Baja California, Mexico; Centro Comercial Otay, Tijuana, Baja California, Mexico; R.F.C. MTI-920115-RR6 (Mexico) [SDNTK].

9. OPERADORA DE CAJA Y SERVICIOS, S.A. DE C.V., Diaz Ordaz Blvd., 9B del Prado, Tijuana, Baja California, Mexico; Blvd. Agua Caliente 9231, Cacho, Tijuana, Baja California, Mexico; R.F.C. OCS-920326-850 (Mexico) [SDNTK].

10. PATRICIA CASA DE CAMBIO, Calle Puerto 291, Zona Centro, Tijuana, Baja California, Mexico [SDNTK].

11. PROMOTORA FIN, S.A. (a.k.a. PROFINSA; a.k.a. PROMOTORA FIN, S.A. DE C.V.), Agua Caliente Blvd. 122 A, Cacho, Tijuana, Baja California, Mexico; Calle 3ra, Carrillo Puerto 216, 4to Piso, Zona Centro, Tijuana, Baja California, Mexico; 3ra. Carrillo Puerto 216 1, Zona Central, Avenida Madero y Avenida Negrete, Tijuana, Baja California, Mexico; R.F.C. PFI-801023-519 (Mexico) [SDNTK].

12. QUINTA REAL JARDIN SOCIAL Y DE EVENTOS, S.A. DE C.V., Avenida Via Rapida Oriente 10950, Zona Rio Tijuana, Tijuana, Baja California, Mexico; R.F.C. QRJ-020528-BQ7 (Mexico) [SDNTK].

13. STRONG LINK DE MEXICO, S.A. DE C.V., Avenida C. Flores Magon 8013, Aquiles Serdan y Reforma, Tijuana Centro, Tijuana, Baja California, Mexico; Flores Magon 8013, Esquina Ninos Heroes, Zona Central, Tijuana, Baja California, Mexico; R.F.C. SLM-020812-2F4 (Mexico) [SDNTK].

14. TERMINADOS BASICOS DE TIJUANA, S.A.DE R.L. DE C.V., Lago Chapultepec, 90 Lago, Laguna de los Terminos y Lago Chalco, Tijuana, Baja California, Mexico; R.F.C. TBT-030115-AUA (Mexico) [SDNTK].

Dated: December 23, 2014.
Gregory T. Gatjanis,
Associate Director, Office of Global Targeting, Office of Foreign Assets Control.

[FR Doc. 2014-30736 Filed 12-31-14; 8:45 am]

BILLING CODE 4810-AL-P